DEPARTMENT OF TRANSPORTATION

Office of the Secretary

Application of Boston-Maine Airways Corp., D/B/A PAN AM Clipper Connection for Issuance of Amended Certificate Authority

AGENCY: Department of Transportation.

ACTION: Notice of order to show cause (Order 2002-12-20) Docket OST-00-7668.

SUMMARY: The Department of Transportation is directing all interested persons to show cause why it should not issue an order (1) finding Boston-Maine Airways Corp. d/b/a Pan Am Clipper Connection fit, willing, and able to conduct operations using large aircraft, and (2) awarding it an amended certificate to engage in interstate scheduled air transportation of persons, property, and mail, using large aircraft.

DATES: Persons wishing to file objections should do so no later than January 13, 2003.

ADDRESSES: Objections and answers to objections should be filed in Docket OST-00-7668 and addressed to Department of Transportation Dockets (SVC-124, Room PL-401), U.S. Department of Transportation, 400 Seventh Street, SW., Washington, DC 20590 and should be served upon the parties listed in Attachment A to the order.

FOR FURTHER INFORMATION CONTACT: Ms. Janet A. Davis, Air Carrier Fitness Division (X-56, Room 6401), U.S. Department of Transportation, 400 Seventh Street, SW., Washington, DC 20590, (202) 366-9721.

Dated: December 27, 2002.
Read C. Van De Water,
Assistant Secretary for Aviation and International Affairs.

[FR Doc. 03-185 Filed 1-3-03; 8:45 am]

BILLING CODE 4910-62-P